SMALL BUSINESS ADMINISTRATION

Data Collection Available for Public Comments

AGENCY: Small Business Administration.

ACTION: 60-Day notice and request for comments.

SUMMARY: The Small Business Administration (SBA) intends to request approval from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before May 3, 2019.

ADDRESSES: Send all comments to Daniel Upham, Chief, Microenterprise Development Division, Office of Capital Access, Small Business Administration, 409 Third Street SW, Washington, DC 20416.

FOR FURTHER INFORMATION CONTACT: Daniel Upham, Chief, Microenterprise Development Division, Office of Capital Access, Daniel.upham@sba.gov, 202-205-7001, or Curtis B. Rich, Management Analyst, 202-205-7030, curtis.rich@sba.gov.

SUPPLEMENTARY INFORMATION: Section 853(c) of the National Defense Authorization Act for Fiscal Year 2019 (NDAA 2019), Public Law 115-232 (8/13/2018) requires the SBA to study the level of participation by intermediaries that are eligible to participate in the Agency's Microloan Program. To that end SBA plans to conduct a survey of this group of intermediaries to determine the reasons why some of them do not participate in the program. The survey will explore ways to encourage increased participation in the microloan program, and also decrease the costs associated with participation. Generally, the survey will look at the operations of the intermediaries, including structure, size, area of operations, and the nature of the services that they provide.

Intermediaries that are eligible for the program but do not currently participate will be asked to identify some of the factors that contribute to their non-participation in the program. The survey will also explore what factors could make the program more appealing to intermediaries and lead them to participate. The complete list of questions is available upon request from SBA.

Finally, as required by the NDAA 2019, the results of the study will be reported to the Committee on Small Business and Entrepreneurship of the Senate, and the Committee on Small Business of the House of Representatives.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the requested information.

Summary of Information Collection

Title: SBA Study of Microenterprise Participation.

Form Number: N/A.

Description of Respondents: Organizations eligible to participate in the SBA Microloan Program.

Estimated Number of Respondents: 500.

Total Estimated Responses: 500.

Total Estimated Annual Hour Burden: 160 hours.

Curtis Rich,
Management Analyst.

[FR Doc. 2019-03720 Filed 3-1-19; 8:45 am]

BILLING CODE 8025-01-P